AGENCY FOR INTERNATIONAL DEVELOPMENT

Meeting; Board for International Food and Agricultural Development

AGENCY: Agency for International Development.

ACTION: Notice of meeting; request for public comment.

SUMMARY: The Board for International Food and Agricultural Development (BIFAD) (see https://www.usaid.gov/bifad), an advisory committee on food and agriculture issues to the US Agency for International Development (USAID), is hosting a full-day public meeting, Elevating Climate Change Adaptation and Mitigation in USAID's Agricultural, Nutrition, and Food System Programming to Inform Strategy Implementation: A Discussion of the BIFAD Climate Change Subcommittee Draft Commissioned Report, to address the opportunities and challenges of transformational climate change adaptation and mitigation in USAID's agricultural, nutrition, and food systems programming. The meeting will highlight a draft commissioned report guided by the BIFAD Subcommittee on Systemic Solutions for Climate Change Adaptation and Mitigation in Agriculture, Nutrition, and Food Systems, a subordinate unit of BIFAD established in June 2022 in response to a USAID request for advice on addressing the climate crisis in agricultural, nutrition, and food systems. The program will include Agency, stakeholder, and public insights and deliberation of draft recommendations from the report on integrating climate change adaptation and mitigation opportunities within USAID's agricultural, nutrition, and food system programming, research investments, and operational practices, as well as mobilizing climate finance for more resilient and sustainable food systems.

DATES: Monday, September 11, 2023, from 10:00 a.m.-12:00 p.m. EDT and 1:30-3:30 p.m. EDT.

ADDRESSES: The event is open to the public and will be hosted in person at the Willard InterContinental Hotel at 1401 Pennsylvania Avenue NW, Washington, DC 20004, and via ZOOM for virtual participation. All in-person participants should register at: https://form.jotform.com/232120052737142. If you would like to attend the event virtually, please register at: https://us06web.zoom.us/webinar/register/WN_z6l1MQ7rTXCxOMeb4pC9UQ. For registration inquiries, please contact Rachel Helbig at rachel.helbig@tetratech.com.

SUPPLEMENTARY INFORMATION: The public meeting will be organized in two sessions:

I. Morning Session: A Vision for USAID Research To Advance Food Security, Nutrition, Climate and Environment Goals

This session will focus on opportunities to integrate climate change in implementation of the U.S. Government Global Food Security Research Strategy (https://www.feedthefuture.gov/resource/u-s-government-global-food-security-research-strategy-fy22-26/). Speakers will explore opportunities to strengthen the relationships among environmental, agricultural, nutrition, and food systems research programming, promoting investments that take explicit account of climate impacts while advancing food security, nutrition, and environmental goals. This session will highlight USAID's plans to bring a climate change lens to agriculture, nutrition, and food systems research in collaboration with the U.S. Department of State, the U.S. Department of Agriculture, other interagency partners, and the higher education community, particularly the Feed the Future Innovation Labs, in alignment with the U.S. Government Global Food Security Research Strategy. The session will invite comments and questions about this plan, and the conclusions will inform the specificity and actionability of recommendations relevant to research outlined in the BIFAD-commissioned study.

II. Afternoon Session: A Deliberation of Draft Report Recommendations From the BIFAD Subcommittee on Systemic Solutions for Climate Change Adaptation and Mitigation in Agriculture, Nutrition, and Food Systems

This session will provide a platform for the BIFAD Subcommittee on Systemic Solutions for Climate Change Adaptation and Mitigation in Agriculture, Nutrition, and Food Systems to share and discuss the main findings, targets, and recommendations of the draft report with BIFAD, USAID representatives, and other stakeholders. These include realistic 2030 targets for USAID and recommendations to achieve transformative change, encompassing both Agency operations and social and technical leverage points that merit additional investment. The recommendations are intended to support implementation of USAID's 2022-2030 Climate Strategy across the agricultural, nutrition, and food systems portfolio.

The Subcommittee's draft report will be linked to www.usaid.gov/BIFAD on September 5, 2023. Members of the public are invited to submit written comments on the draft report until September 18, 2023. All comments will be included in the public record and considered in BIFAD's finalization of recommendations.

For questions about BIFAD, or to submit written comments, evidence, or materials in advance or following the meeting, please use this feedback form (https://docs.google.com/forms/d/e/1FAIpQLSfi903QVIdhrHDiXPmd3Xe_lFRiXGGeIgaPiARyqjcu3XFYTQ/viewform) or contact Clara Cohen, Designated Federal Officer for BIFAD in the Bureau for Resilience and Food Security at USAID via email at ccohen@usaid.gov (Subject: Comment on the BIFAD Subcommittee on Climate Change Recommendations) or telephone at (202) 712-0119.

The BIFAD is a seven-member, presidentially appointed advisory board to the USAID established in 1975 under title XII of the Foreign Assistance Act, as amended, to ensure that USAID brings the assets of U.S. universities to bear on development challenges in agriculture and food security and supports their representation in USAID programming.

Clara Cohen,
Designated Federal Officer, BIFAD.

[FR Doc. 2023-17786 Filed 8-17-23; 8:45 am]

BILLING CODE 6116-01-P